DEPARTMENT OF AGRICULTURE

Agricultural Marketing Service

7 CFR Part 984

[Doc. No. AMS-SC-21-0077; SC21-984-4]

Walnuts Grown in California; Notification of Moratorium

AGENCY: Agricultural Marketing Service, Department of Agriculture (USDA).

ACTION: Notification.

SUMMARY: The U.S. Department of Agriculture (USDA) is announcing a six-month moratorium on the enforcement of mandatory inspection requirements under the Federal marketing order for California walnuts.

DATES: This enforcement moratorium began September 1, 2021.

ADDRESSES: Copies of the marketing order may be obtained from the office 1220 SW 3rd Avenue, Suite 305, Portland, OR 97204; Telephone: (503) 326-2724; or the Office of the Docket Clerk, Market Development Division, Specialty Crops Program, AMS, USDA, 1400 Independence Avenue SW, STOP 0237, Washington, DC 20250-0237; Telephone: (202) 720-2491; or on the internet https://www.regulations.gov.

FOR FURTHER INFORMATION CONTACT: Joshua R. Wilde or Gary D. Olson, West Region Branch, Market Development Division, Specialty Crops Program, AMS, USDA, 1220 SW 3rd Avenue, Suite 305, Portland, OR 97204; Telephone: (503) 326-2724, or Email: Joshua.R.Wilde@usda.gov or GaryD.Olson@usda.gov.

SUPPLEMENTARY INFORMATION: Pursuant to Marketing Agreement and Order No. 984, as amended (7 CFR part 984), hereinafter referred to as the “Order,” and applicable provisions of the Agricultural Marketing Agreement Act of 1937, as amended (7 U.S.C. 601-674), hereinafter referred to as the “Act,” it is hereby announced that a six-month moratorium on the enforcement of mandatory inspection requirements under the Federal marketing order for California walnuts is effectuated beginning September 1, 2021. This moratorium also includes inspection requirements on walnuts imported into the United States under section 608e of the Agricultural Marketing Agreement Act of 1937, as amended.

The six-month moratorium will also affect the California Walnut Board's (CWB) collection of assessments from domestic handlers under the marketing order. While the moratorium is in effect, the CWB will be unable to collect assessments to finance its operational activities. Instead, the CWB will be able to employ financial practices authorized by the marketing order, which may include utilizing borrowing authority, using its financial reserves, and accepting voluntary contributions.

The moratorium is based on discussions with industry about market disruptions associated with the COVID-19 pandemic, such as labor and transportation interruptions and ongoing tariff issues. The combination of these issues is adversely affecting market conditions across the California walnut industry.

Through this notification, USDA is informing stakeholders, including the Dried Fruit Association; the California Department of Food and Agriculture; U.S. Customs and Border Protection; and walnut producers, handlers, and importers that USDA is exercising its discretion to issue the six-month moratorium on the enforcement of mandatory inspection requirements.

The moratorium will remain in place for six months beginning September 1, 2021. If, during the moratorium, the CWB will submit a proposal for formal rulemaking to address inspection requirements in the marketing order. USDA may extend the moratorium until resolution of the rulemaking process.

USDA's role of overseeing the CWB and the Order's operations will continue uninterrupted during the moratorium.

Erin Morris,
Associate Administrator, Agricultural Marketing Service.

[FR Doc. 2021-21105 Filed 9-28-21; 8:45 am]

BILLING CODE P